DEPARTMENT OF DEFENSE

Department of the Army

Privacy Act of 1974; System of Records

AGENCY: Department of the Army, DoD.

ACTION: Notice to delete systems of records.

SUMMARY: The Department of the Army is deleting two systems of records notices from its existing inventory of records systems subject to the Privacy Act of 1974, (5 U.S.C. 552a), as amended.

DATES: This proposed action will be effective without further notice on May 19, 2003, unless comments are received which result in a contrary determination.

ADDRESSES: Department of the Army, Freedom of Information/Privacy Act Office, U.S. Army Records Management and Declassification Agency, ATTN: TAPC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 10, 2003.
Patricia L. Toppings,
Alternate OSD Federal Register Liaison Officer, Department of Defense.

A0351 DASG

System name:

Army School Student Files: Physical Therapy Program (March 23, 1999, 64 FR 13972).

Reason: These records are now being maintained under the system of records notice A0351a DASG, U.S. Army Medical Department School and Academy of Health Sciences Academic Records (July 31, 2002, 67 FR 49678).

A0351 HSC

System name:

Practical Nurse Course Files (February 22, 1993, 58 FR 10002).

Reason:

Individual Academic and Class Academic records are now covered under the system of records notice A0351a DASG, entitled ‘U.S. Army Medical Department School and Academy of Health Science Academic Records’. Individual training records and Faculty Board files have been destroyed.

[FR Doc. 03-9461 Filed 4-16-03; 8:45 am]

BILLING CODE 5001-08-P